DEPARTMENT OF ENERGY

Federal Energy Regulatory Commission

[Project No. 6398-026]

Hackett Mills Hydro Associates, LLC; Notice Soliciting Scoping Comments

Take notice that the following hydroelectric application has been filed with the Commission and is available for public inspection.

a. Type of Application: Subsequent Minor License.

b. Project No.: 6398-026.

c. Date filed: August 31, 2022.

d. Applicant: Hackett Mills Hydro Associates, LLC (Hackett Mills Hydro).

e. Name of Project: Hackett Mills Hydroelectric Project.

f. Location: On the Little Androscoggin River, in the towns of Poland and Minot, in Androscoggin County, Maine. The project does not occupy any federal land.

g. Filed Pursuant to: Federal Power Act, 16 U.S.C. 791 (a)-825(r).

h. Applicant Contact: David Fox, Senior Director, Regulatory Affairs, Hackett Mills Hydro Associates, LLC c/o Eagle Creek Renewable Energy, LLC, 7315 Wisconsin Avenue, Suite 1100W, Bethesda, Maryland 20814; phone: (201) 305-5616; email: David.Fox@eaglecreekre.com.

i. FERC Contact: John Matkowski at (202) 502-8576 or john.matkowski@ferc.gov.

j. Deadline for filing scoping comments: on or before 5:00 p.m. Eastern Time on July 13, 2025.¹

¹ The Commission's Rules of Practice and Procedure provide that if a deadline falls on a Saturday, Sunday, holiday, or other day when the Commission is closed for business, the deadline does not end until the close of business on the next business day. 18 CFR 385.2007(a)(2). Because the 30-day filing deadline falls on Sunday (i.e., July 13, 2025), the filing deadline is extended until on or before 5:00 p.m. Eastern Time on Monday, July 14, 2025.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Hackett Mills Hydroelectric Project (P-6398-026).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Hackett Mills Project consists of: (1) a 285-foot-long dam that consists of the following sections: (a) a 36-foot-long gatehouse section that contains five gates; (b) a 23-foot-long concrete abutment section (west abutment); (c) a 101-foot-long rock-filled timber crib dam with an uncontrolled spillway (main spillway section); (d) a 40-foot-long obsolete sluice gatehouse section that contains one gate; and, (e) an 85-foot-long concrete gravity dam section with three uncontrolled bays (secondary spillway section); (2) a 3.5-mile-long, 60-acre impoundment with no useable storage capacity at a normal maximum water surface elevation of 235.045 feet; ² (3) a 100-foot-long, 25-foot-wide, 10-foot-deep power canal; (4) a 20-feet-long, 22-feet-wide, 43.5-foot-high concrete powerhouse located at the end of the power canal containing one 485-kilowatt right angle drive bulb turbine-generator unit, with a minimum hydraulic capacity of 113 cubic-feet-per-second (cfs) and a maximum hydraulic capacity of 474 cfs; (5) a downstream fish passage facility; (6) a 200-foot-long, 12.5-kilovolt transmission line; and (7) appurtenant facilities. The project generates an average of 1,602 megawatt-hours annually.

² All elevations are reported in National Geodetic Vertical Datum of 1929 (NGVD 29).

m. A copy of the application can be viewed on the Commission's website at https://www.ferc.gov using the “eLibrary” link. Enter the project's docket number, excluding the last three digits in the sub-docket number field to access the document. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. The Commission's Office of Public Participation (OPP) supports meaningful public engagement and participation in Commission proceedings. OPP can help members of the public, including landowners, Tribal members, and others, access publicly available information and navigate Commission processes. For public inquiries and assistance with making filings such as interventions, comments, or requests for rehearing, the public is encouraged to contact OPP at (202) 502-6595, or OPP@ferc.gov.

o. Scoping Process

Pursuant to the National Environmental Policy Act (NEPA), Commission staff intends to prepare either an environmental assessment (EA) or an environmental impact statement (EIS) (collectively referred to as the “NEPA document”) that describes and evaluates the probable effects, including an assessment of the site-specific, if any, of the proposed action and alternatives. The Commission's scoping process will help determine the required level of analysis and satisfy the NEPA scoping requirements, irrespective of whether the Commission issues an EA or an EIS. At this time, we do not anticipate holding on-site scoping meetings. Instead, we are soliciting written comments and suggestions on the preliminary list of issues and alternatives to be addressed in the NEPA document, as described in scoping document 1 (SD1), issued June 13, 2025.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: June 13, 2025.
Debbie-Anne A. Reese,
Secretary.

[FR Doc. 2025-11225 Filed 6-17-25; 8:45 am]

BILLING CODE 6717-01-P